NUCLEAR REGULATORY COMMISSION

[Dockets 50-029, 72-31; NRC-2010-0231]

Yankee Atomic Electric Co.; Yankee Atomic Independent Spent Fuel Storage Installation; Issuance of Environmental Assessment and Finding of No Significant Impact Regarding the Request for Exemption

AGENCY: Nuclear Regulatory Commission.

ACTION: Issuance of environmental assessment and finding of no significant impact.

FOR FURTHER INFORMATION CONTACT: John Goshen, Project Manager, Division of Spent Fuel Storage and Transportation, Office of Nuclear Material Safety and Safeguards, U.S. Nuclear Regulatory Commission, Washington, DC. 20555. Telephone: (301) 492-3325; fax number: (301) 492-3342; e-mail: john.goshen@nrc.gov.

Introduction

The U.S. Nuclear Regulatory Commission (NRC) is considering issuance of an exemption to Yankee Atomic Electric Company (YAEC), pursuant to 10 CFR 72.7, from the specific provisions of 10 CFR 72.212(a)(2), 72.212(b)(2)(i)(A), 72.212(b)(7), and 72.214. YAEC is using a dry cask storage system, the NAC-MPC, Certificate of Compliance (CoC) No. 1025, to store spent nuclear fuel under a general license in an independent spent fuel storage installation (ISFSI) associated with the decommissioned Yankee Nuclear Power Station, located at Rowe, Massachusetts. YAEC stores spent fuel in fifteen NAC-MPC casks at the YAEC ISFSI, all loaded under Amendment No. 3 to CoC No. 1025. Under the current 10 CFR part 72 regulations, the general licensee is bound by the terms and conditions of the CoC under which it loaded a given cask. Amendment No. 3 will remain in effect for the casks at the YAEC ISFSI until the NRC expressly approves the application of changes authorized by a later CoC amendment. Such an approval is typically accomplished through a 10 CFR 72.7 exemption.

In its letter dated February 23, 2010, YAEC stated that it intended to adopt Amendment No. 5 to CoC No. 1025 for all fifteen NAC-MPC casks at the site. Implementation of Amendment No. 5 of CoC No. 1025 to all fifteen NAC-MPC casks will allow a visual alternative to Technical Specification (TS) Surveillance Requirement 3.1.6.1 to verify the operability of the concrete cask heat removal system to maintain safe storage conditions and will also remove a specification in the CoC for tamper indicating devices. The NRC published the direct final rule for Amendment No. 5 of CoC No. 1025 on May 10, 2007 (72 FR 26535), with an effective date of July 24, 2007 (72 FR 38468, July 13, 2007).

In its letter of February 23, 2010, YAEC did not request that the NRC expressly approve implementation of Amendment No. 5 to all fifteen NAC-MPC casks at the site. YAEC, however, initiated an evaluation to determine if the fifteen casks conform to the requirements of Amendment No. 5 of CoC No. 1025. The evaluation concluded that all fifteen casks conform to Amendment No. 5. Under the current 10 CFR part 72 regulations, a general licensee, such as YAEC, is not authorized to apply changes allowed by a later CoC amendment (in this case, Amendment No. 5) to a cask loaded under an earlier CoC amendment (in this case, Amendment No. 3) without express prior approval of the NRC.¹ Thus, in order to effectuate the requested exemption, the NRC will have to expand the scope of the requested exemption to include the application of the changes authorized by Amendment No. 5 to the subject casks. The applicable regulation, 10 CFR 72.7, allows the NRC to grant exemptions upon its own initiative.

¹ See Enforcement Guidance Memorandum 09-006, dated September 15, 2009 (ADAMS Accession No. ML091970035).

In its letter of February 23, 2010, YAEC also request the continuation of two exemptions from the terms and conditions of Amendment No. 5, similar to two previously approved exemptions from the terms and conditions of Amendment No. 3. Specifically, YAEC requests exemptions from the following Amendment No. 5 requirements to: (1) Develop training modules under the Systems Approach to Training (SAT) that include comprehensive instructions for the operations and maintenance of ISFSI systems, structures, and components, as required by Appendix A, Section A 5.1, “Training Program,” other than the NAC-MPC system; and (2) submit an annual report pursuant to 10 CFR 72.44(d)(3) or 10 CFR 50.36a(a)(2), per Appendix A, Section A 5.4, “Radioactive Effluent Control Program,” that specifies the quantity of each of the principal radionuclides released to the environment in liquid and gaseous effluents during the previous 12 months of operation. YAEC has asserted that the NAC-MPC system is a sealed and leak-tight spent fuel storage system and as such, there are no effluent releases from the system.

In accordance with the requirements in 10 CFR part 51, the NRC has prepared an environmental assessment for the NRC action of approving or disapproving an exemption from the requirements of 10 CFR 72.212(a)(2), 72.212(b)(2)(i)(A), 72.212(b)(7), and 72.214, which, if approved, will allow YAEC to apply the changes authorized by Amendment No. 5 to the fifteen NAC-MPC casks loaded under Amendment No. 3 at the YAEC ISFSI. Based upon this environmental assessment, the NRC has concluded that a Finding of No Significant Impact is appropriate. The requests for exemptions from the requirements of Appendix A, Section A 5.4, Radioactive Effluent Control Program, and Appendix A,, Section A 5.1, Training Program are categorically excluded from further environmental review in accordance with 10 CFR 51.22(c)(25)(vi)(B) and (E), respectively.

Environmental Assessment

Identification of Proposed Action: The NRC proposes to issue an exemption to YAEC from the requirements of 10 CFR 72.212(a)(2), 72.212(b)(2)(i)(A), 72.212(b)(7), and 72.214, thereby allowing YAEC to apply the changes authorized by Amendment No. 5 to CoC No. 1025 to the fifteen NAC-MOC casks at the YAEC ISFSI, which were loaded under Amendment No. 3 to CoC No. 1025. Section 72.212(a)(2) provides that the general license is limited to storage of spent fuel in casks approved under the provisions of 10 CFR part 72; § 72.212(b)(2)(i)(A) requires the general licensee to perform written evaluations, prior to use of a cask, that establish that the conditions set forth in the CoC have been met; § 72.212(b)(7) requires that the general licensee comply with the terms and conditions of the CoC; and § 72.214 lists the cask designs that have been approved by the NRC and are available for use by general licensees under the 10 CFR part 72 general license. The NRC's regulatory authority to grant these exemptions is 10 CFR 72.7.

Need for the Proposed Action: Implementation of the changes authorized by Amendment No. 5 of CoC No. 1025 to all fifteen NAC-MPC casks at the YAEC ISFSI will allow a visual alternative to Technical Specification (TS) Surveillance Requirement 3.1.6.1 to verify the operability of the concrete cask heat removal system to maintain safe storage conditions and will also remove a specification in the CoC for tamper indicating devices. These changes will provide the applicant with significant cost savings and flexibility without any decrease in safety.

Environmental Impacts of the Proposed Action: The NRC has reviewed the exemption request submitted by YAEC and has determined that allowing YAEC to apply the changes authorized by Amendment No. 5 of CoC No. 1025 to the casks at the YAEC ISFSI, if approved, would have no significant impact to the environment. In connection with the approval of Amendment No. 5 of CoC 1025, the NRC prepared and published in the Federal Register a Finding of No Significant, based upon an environmental assessment, for the generic use of the changes authorized by Amendment No. 5 (72 FR 26535, 26537, May 10, 2007).

Further, NRC has evaluated the impact to public safety that would result from granting the proposed action. The approval of the proposed action would not increase the probability or consequences of accidents, no changes would be made to the types of effluents released offsite, and there would be no increase in occupational or public radiation exposure. Therefore, there are no significant radiological environmental impacts associated with the proposed action. Additionally the proposed action would not involve any construction or other ground disturbing activities, would not change the footprint of the existing ISFSI, and would have no other significant non-radiological impacts. In this regard, and as the ISFSI is located on previously disturbed land, it is extremely unlikely that approval of the proposed action would create any significant impact on the aquatic or terrestrial habitat in the vicinity of the plant, or to threatened, endangered, or protected species under the Endangered Species Act, or to essential fish habitat covered by the Magnuson-Stevens Act. Similarly, approval of the proposed action is not the type of activity that has the potential to cause effects on historic or cultural properties, assuming such properties are present at the site of the YAEC ISFSI.

Alternative to the Proposed Action: Since there is no significant environmental impact associated with the proposed action, any alternatives with equal or greater environmental impact are not evaluated. The alternative to the proposed action would be to deny approval of the exemption. This alternative would have the same environmental impact.

Given that there are no significant differences in environmental impact between the proposed action and the alternative considered and that YAEC has a legitimate need, the Commission concludes that the preferred alternative is to grant the requested exemption.

Finding of No Significant Impact

The environmental impacts of the proposed action have been reviewed in accordance with the requirements set forth in 10 CFR part 51. Based upon the foregoing Environmental Assessment, the Commission finds that the proposed action of granting an exemption from the specific requirements of 10 CFR 72.212(a)(2), 72.212(b)(2)(i)(A), 72.212(b)(7), and 72.214, will not significantly impact the quality of the human environment. Accordingly, the Commission has determined not to prepare an environmental impact statement for the proposed action.

Further Information

In accordance with 10 CFR 2.390 of NRC's “Rules of Practice,” NRC records and documents related to this action, including the application for exemption and supporting documentation are available electronically at the NRC's Electronic Reading Room, at: http://www.nrc.gov/reading-rm/adams.html. From this site, you can access NRC's ADAMS, which provides text and image files of NRC's public documents. The ADAMS Accession Number for the application, dated February 23, 2010, is ML100610320.

If you do not have access to ADAMS, or if there are problems in accessing the documents located in ADAMS, contact NRC's Public Document Room (PDR) Reference staff at 1-800-397-4209, 301-415-4737, or by e-mail to pdr.resource@nrc.gov.

These documents may also be viewed electronically on the public computers located at NRC's PDR, O1-F21, One White Flint North, 11555 Rockville Pike, Rockville, MD 20852. The PDR reproduction contractor will copy documents, for a fee.

Dated at Rockville, Maryland, this 17th day of June, 2010.
For the Nuclear Regulatory Commission.
Eric Benner,
Chief Licensing Branch, Division of Spent Fuel Storage and Transportation, Office of Nuclear Material Safety and Safeguards.

[FR Doc. 2010-15442 Filed 6-24-10; 8:45 am]

BILLING CODE 7590-01-P